DEPARTMENT OF ENERGY

Federal Energy Regulatory Commission

Combined Notice of Filings #1

Take notice that the Commission received the following electric rate filings:

Docket Numbers: ER23-2358-001.

Applicants: Wildflower Solar, LLC.

Description: Tariff Amendment: Amendment to the Shared Facilities and Co-Tenancy Agreement to be effective 9/6/2023.

Filed Date: 8/22/23.

Accession Number: 20230822-5104.

Comment Date: 5 p.m. ET 9/12/23.

Docket Numbers: ER23-2409-001.

Applicants: The Potomac Edison Company.

Description: The Potomac Edison Company submits an Amendment and Waiver Request to its notice of cancellation of its reactive power tariff submitted on July 14, 2023.

Filed Date: 8/18/23.

Accession Number: 20230818-5224.

Comment Date: 5 p.m. ET 9/8/23.

Docket Numbers: ER23-2428-001.

Applicants: Bucksport Generation LLC.

Description: Tariff Amendment: Bucksport Generation LLC, IROL-CIP Rate Schedule Amendment to be effective 9/29/2023.

Filed Date: 8/22/23.

Accession Number: 20230822-5133.

Comment Date: 5 p.m. ET 9/12/23.

Docket Numbers: ER23-2448-001.

Applicants: Tunica Windpower LLC.

Description: Tariff Amendment: Tunica Windpower LLC Supplement to MBR Application to be effective 9/18/2023.

Filed Date: 8/22/23.

Accession Number: 20230822-5126.

Comment Date: 5 p.m. ET 9/12/23.

Docket Numbers: ER23-2679-000.

Applicants: Duke Energy Progress, LLC.

Description: Notice of Cancellation of Service Agreements of Duke Energy Progress, LLC.

Filed Date: 8/21/23.

Accession Number: 20230821-5185.

Comment Date: 5 p.m. ET 9/11/23.

Docket Numbers: ER23-2680-000.

Applicants: New York Independent System Operator, Inc., New York State Electric & Gas Corporation.

Description: § 205(d) Rate Filing: New York Independent System Operator, Inc. submits tariff filing per 35.13(a)(2)(iii: NYISO-NYSEG Joint 205: Scnd Amd LGIA Baron Winds SA2487 (CEII) to be effective 8/8/2023.

Filed Date: 8/22/23.

Accession Number: 20230822-5051.

Comment Date: 5 p.m. ET 9/12/23.

Docket Numbers: ER23-2681-000.

Applicants: Midcontinent Independent System Operator, Inc., Pioneer Transmission, LLC.

Description: § 205(d) Rate Filing: Midcontinent Independent System Operator, Inc. submits tariff filing per 35.13(a)(2)(iii: 2023-08-22_Pioneer Tariff Sheet Consolidation to be effective 1/1/2022.

Filed Date: 8/22/23.

Accession Number: 20230822-5069.

Comment Date: 5 p.m. ET 9/12/23.

Docket Numbers: ER23-2682-000.

Applicants: Southwest Power Pool, Inc.

Description: § 205(d) Rate Filing: Att O Sec. 2 Re How Votes are Tallied in Zonal Planning Criteria Voting (RR 557) to be effective 10/22/2023.

Filed Date: 8/22/23.

Accession Number: 20230822-5083.

Comment Date: 5 p.m. ET 9/12/23.

Docket Numbers: ER23-2683-000.

Applicants: Southwest Power Pool, Inc.

Description: § 205(d) Rate Filing: 4126 NPPD and Tri-State G&T Interconnection Agreement to be effective 10/21/2023.

Filed Date: 8/22/23.

Accession Number: 20230822-5085.

Comment Date: 5 p.m. ET 9/12/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 22, 2023.
Debbie-Anne A. Reese,
Deputy Secretary.

[FR Doc. 2023-18482 Filed 8-25-23; 8:45 am]

BILLING CODE 6717-01-P